DEPARTMENT OF COMMERCE

International Trade Administration

[A-570-804]

Continuation of Antidumping Duty Order: Sparklers from the People's Republic of China

AGENCY: Import Administration, International Trade Administration, Department of Commerce.

ACTION: Notice of continuation of antidumping duty order: Sparklers from the People's Republic of China.

SUMMARY: On February 3, 2000, the Department of Commerce (“the Department”), pursuant to sections 751(c) and 752 of the Tariff Act of 1930, as amended (“the Act”), determined that revocation of the antidumping duty order on sparklers from the People's Republic of China (“PRC”), is likely to lead to continuation or recurrence of dumping. See 65 FR 5312 (February 3, 2000).

On July 6, 2000, the International Trade Commission (“the Commission”), pursuant to section 751(c) of the Act, determined that revocation of the antidumping duty order on sparklers from the PRC would be likely to lead to continuation or recurrence of material injury to an industry in the United States within a reasonably foreseeable time. See 65 FR 41728 (July 6, 2000). Therefore, pursuant to 19 CFR 351.218(f)(4), the Department is publishing notice of the continuation of the antidumping duty order on sparklers from the PRC.

EFFECTIVE DATE: July 13, 2000.

FOR FURTHER INFORMATION CONTACT: Martha V. Douthit, Office of Policy for Import Administration, International Trade Administration, U.S. Department of Commerce, 14th Street and Constitution Ave., NW., Washington, DC 20230; telephone: (202) 482-5050.

SUPPLEMENTARY INFORMATION:

Background

On July 1, 1999, the Department initiated, and the Commission instituted sunset reviews (64 FR 35588 and 64 FR 35689) of the antidumping duty order on sparklers from the PRC, pursuant to section 751(c) of the Act. As a result of its review the Department found on February 3, 2000, that revocation of the antidumping duty order on sparklers from the PRC would likely lead to continuation or recurrence of dumping and notified the Commission of the magnitude of the margins likely to prevail were the order revoked. See Final Results of Expedited Sunset Review: Sparklers From the People's Republic of China, 65 FR 5312 (February 3, 2000).

On July 6, 2000, the Commission determined, pursuant to section 751(c) of the Act, that revocation of the antidumping duty order on sparklers from the PRC would be likely to lead to continuation or recurrence of material injury to an industry in the United States within a reasonably foreseeable time. See Sparklers from China, 65 FR 41728 (July 6, 2000) and USITC Publication 3317 (July 2000), Investigation No. 731-TA-464 (Review).

Scope

The merchandise subject to this antidumping duty order is sparklers from the PRC. Sparklers are fireworks each comprising a cut-to-length wire, one end of which is coated with a chemical mix that emits bright sparks while burning. Sparklers are currently classified under Harmonized Tariff Schedule (“HTS”) of the United States subheading 3604.10.00. The HTS subheading is provided for convenience and customs purposes. The written description remains dispositive.

Determination

As a result of the determination by the Department and the Commission that revocation of the antidumping duty order on sparklers from the PRC would be likely to lead to continuation or recurrence of dumping and material injury to an industry in the United States, pursuant to section 751(d)(2) of the Act, the Department hereby orders the continuation of the antidumping duty order on sparklers from the PRC. The Department will instruct the U.S. Customs Service to continue to collect antidumping duty deposits at the rates in effect at the time of entry for all imports of subject merchandise.

Normally, the effective date of continuation of a finding, order, or suspension agreement will be the date of publication in the Federal Register of the Notice of Continuation. As provided in 19 CFR 351.218.(f)(4), the Department will issue its determination to continue a finding, order, or suspended investigation not later than seven days after the date of publication in the Federal Register of the Commission's determination concluding the sunset review and immediately thereafter will publish its notice of continuation in the Federal Register. In this instant case, however, the Department's publication of the Notice of Continuation was delayed. The Department has explicitly indicated that the effective date of continuation of this order is July 13, 2000, seven days after the publication in the Federal Register of the Commission's determination. As a result, pursuant to section 751(c)(6)(A) of the Act, the Department intends to initiate the next five year review of this order not later than June 2005.

Dated: August 25, 2000.
Troy H. Cribb,
Acting Assistant Secretary for Import Administration.

[FR Doc. 00-22354 Filed 8-30-00; 8:45 am]

BILLING CODE 3510-DS-P